DEPARTMENT OF THE INTERIOR

Bureau of Land Management

[LLAK941000.L14100000.ET0000.223]

Notice of Intent To Prepare an Environmental Impact Statement To Consider the Impacts of Opening Lands Subject to ANCSA 17(d)(1) Withdrawals, Including Lands Within the Bay, Bering Sea-Western Interior, East Alaska, Kobuk-Seward Peninsula, and Ring of Fire Planning Areas; Alaska

AGENCY: Bureau of Land Management, Interior.

ACTION: Notice of intent to prepare an Environmental Impact Statement.

SUMMARY: In compliance with the National Environmental Policy Act of 1969 (NEPA), as amended; the Federal Land Policy and Management Act of 1976 (FLPMA), as amended; the Alaska National Interest Lands Conservation Act of 1980 (ANILCA), as amended; and the Alaska Native Claims Settlement Act (ANCSA), as amended, the Bureau of Land Management (BLM) intends to prepare an Environmental Impact Statement (EIS) to consider the effects of opening lands subject to withdrawals established pursuant to section 17(d)(1) of ANCSA on lands within the Bay, Bering Sea-Western Interior, East Alaska, Kobuk-Seward Peninsula, and Ring of Fire planning areas, and by this notice is announcing the beginning of the scoping process to solicit public comments and identify issues.

DATES: This notice initiates the public scoping process for the EIS. The BLM requests comments concerning the scope of the analysis, potential alternatives, and identification of relevant information by October 17, 2022. To afford the BLM the opportunity to consider comments in the Draft EIS, please ensure your comments are received prior to the close of the 60-day scoping period or 15 days after the last public meeting, whichever is later.

ADDRESSES: You may submit comments on issues related to this process by any of the following methods:

• ePlanning website: https://eplanning.blm.gov/eplanning-ui/project/2018002/510

• Mail: 222 W 7th Avenue, Stop #13, Anchorage, Alaska 99513

• More details and instructions for submitting public comment can be found on the BLM ePlanning website at https://eplanning.blm.gov/eplanning-ui/project/2018002/510

Documents pertinent to this proposal may be examined at the ePlanning website.

FOR FURTHER INFORMATION CONTACT: Racheal Jones at (907) 290-0307, or by email at rajones@blm.gov, on questions specific to NEPA or to have your name added to our mailing list; and Bettie Shelby at (907) 271-5596, or by email at bshelby@blm.gov, on questions specific to the actions at issue in this EIS.

Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: Public Land Order (PLO) No. 7899, which would revoke withdrawals established under ANCSA Section 17(d)(1) on lands in the Kobuk-Seward Peninsula planning area, was signed on January 11, 2021, and published in the Federal Register on January 19, 2021 (86 FR 5236). PLO Nos. 7900, 7901, 7902, and 7903, which would revoke withdrawals established under ANCSA Section 17(d)(1) on lands in the Ring of Fire, Bay, Bering Sea-Western Interior, and East Alaska planning areas, respectively, were signed on January 15 and 16, 2021, but were never published in the Federal Register. The Department deferred the opening of the lands described in PLO No. 7899 by 60 days on February 18, 2021, to provide an opportunity to review the decisions and ensure the orderly management of the public lands (86 FR 10131). Subsequently, the Department identified certain procedural and legal defects in the decision-making process for PLO Nos. 7899, 7900, 7901, 7902, and 7903, including insufficient analysis under NEPA, failure to follow section 106 of the National Historic Preservation Act (NHPA), possible failure to adequately evaluate impacts under section 7 of the Endangered Species Act (ESA), failure to secure consent from the Department of Defense (DOD) with regard to lands under DOD administration as required by Section 204(i) of FLPMA (43 U.S.C. 1714(i)), failure to adequately analyze potential impacts on subsistence hunting and fishing, and reliance on potentially outdated data in EISs prepared in 2006 and 2007. Due to these identified deficiencies, on April 16, 2021, the Department—relying on its inherent authority to revisit decisions based on identified legal errors—deferred the opening of lands under PLO No. 7899 and the publication of PLO Nos. 7900, 7901, 7902, and 7903 in order to address the deficiencies in the decision-making process that led to the PLOs (86 FR 20193).

As a result, the BLM completed an environmental assessment on April 21, 2022, to ensure legal compliance for opening lands within the areas affected by PLO Nos. 7899, 7900, 7901, 7902, and 7903 to selection by Alaska Native Vietnam-era Veterans under Section 1119 of the Dingell Act due to the five-year statutory limit on the application period for allotment selections. The Secretary issued a public land order to open the land to allotment selection on January 19, 2021. The BLM is now undertaking this process to address the remaining legal defects in the decision-making processes for PLO Nos. 7899, 7900, 7901, 7902, and 7903 and to ensure compliance with the requirements of NEPA, Section 204(i) of FLPMA, Section 106 of the NHPA, Section 7 of the ESA, and Section 810 of ANILCA.

The BLM will consider a range of alternatives in the EIS, which may include full or partial revocation of the ANCSA 17(d)(1) withdrawals, making one or more withdrawals under FLPMA, or retention of some or all of the ANCSA 17(d)(1) withdrawals.

Full or partial revocation of the ANCSA 17(d)(1) withdrawals may result in changes to land use that could affect local residents, wildlife, vegetation, cultural resources, subsistence use, air resources, and water resources across up to 28 million acres of BLM-administered land in Alaska.

While BLM currently intends to prepare a single EIS, we request public input during the scoping period on whether the analysis should be completed through one or multiple EISs. The BLM is also seeking input on specific areas within these planning areas that may experience unique or otherwise significant impacts as a result of opening the lands, which would need to be considered in the analysis.

During this 60-day scoping period, the BLM does not intend to hold any public meetings, in-person or virtual. Should the BLM later determine to hold public meetings, the specific date(s) and location(s) of any meeting will be announced at least 15 days in advance. The BLM is seeking public comments on issues, concerns, potential impacts, alternatives, and mitigation measures that should be considered in the analysis. Additional opportunities for public participation, including at least a 60-day public comment period, will be provided upon publication of the Draft EIS. The NEPA process will be completed consistent with 40 CFR 1501.10(b)(2), following which the Secretary will make a decision regarding the ANCSA 17(d)(1) withdrawals

The input of Alaska Native Tribes and Corporations is of critical importance to this EIS. Therefore, during the planning process, the BLM will continue to consult with potentially affected Federally recognized Tribes on a government-to-government basis, and with affected Alaska Native Corporations in accordance with Public Law 108-199, Div. H, sec. 161, 118 Stat. 452, as amended by Public Law 108-447, Div. H, sec. 518, 118 Stat. 3267, as well as Executive Order 13175, and other Department and Bureau policies. We respectfully request participation in consultation by Alaska Native Tribes and Alaska Native Corporations to provide their views and recommendations on the alternatives outlined above, including specific lands to be opened or to remain subject to withdrawals. The BLM will hold individual consultation meetings upon request.

The BLM will also use and coordinate the NEPA process to help fulfill its obligations under the NHPA, including as provided in 36 CFR 800.2(d)(3). Information about historic and cultural resources within the area potentially affected by the proposed action will assist the BLM in identifying and evaluating impacts to such resources. Federal, State, and local agencies, along with Tribes and other stakeholders that may be interested in or affected by the proposed opening of lands withdrawn under the authority of Section 17(d)(1) of ANCSA, are invited to participate in the scoping process and, if eligible, may request or be asked by the BLM to participate in the development of the EIS as cooperating agencies.

It is important that commenters provide their comments at such times and in such manner that they are useful to the agency's preparation of the EIS. Therefore, comments should be provided prior to the close of the comment period and should clearly articulate the commenter's concerns and contentions. Comments received in response to this solicitation, including names and addresses of those who comment, will be part of the public record for this proposed action. Comments submitted anonymously will be accepted and considered.

Before including your address, phone number, email address, or other personal identifying information in your comment, you should be aware that your entire comment—including your personal identifying information—may be made publicly available at any time. While you can ask us in your comment to withhold your personal identifying information from public review, we cannot guarantee that we will be able to do so.

Steven Cohn,
State Director, BLM Alaska.

[FR Doc. 2022-17806 Filed 8-17-22; 8:45 am]

BILLING CODE 4310-JA-P